DEPARTMENT OF ENERGY

Federal Energy Regulatory Commission

[Project No. 15239-000]

PacifiCorp; Notice of Preliminary Permit Application Accepted for Filing and Soliciting Comments, Motions To Intervene, and Competing Applications

On October 13, 2021, PacifiCorp filed an application for a preliminary permit, pursuant to section 4(f) of the Federal Power Act, proposing to study the feasibility of the Crooked Creek Pumped Storage Project (Crooked Creek Project or project) to be located near Valley Falls, Lake County, Oregon. The sole purpose of a preliminary permit, if issued, is to grant the permit holder priority to file a license application during the permit term. A preliminary permit does not authorize the permit holder to perform any land-disturbing activities or otherwise enter upon lands or waters owned by others without the owners' express permission.

The proposed project would consist of the following: (1) An upper reservoir with a surface area of 52 acres and a storage volume of approximately 2,344 acre-feet created by a 4,200-foot-long, 100-foot-high embankment dam; (2) a lower reservoir with a surface area of 50 acres and a storage volume of approximately 2,052 acre-feet created by a 4,300-foot-long, 130 foot-high embankment dam; (3) a 2-mile-long excavated tunnel and 1.3-mile-long steel penstock totaling 3.3 miles with a diameter of 18-feet connecting the upper reservoir with the powerhouse/pump station; (4) a 150-foot-long, 50-foot-wide concrete powerhouse/pump station located on the lower reservoir shoreline containing three 167-megawatt generating/pumping units; (5) a 19.7-mile, 500-kilovolt transmission line interconnecting to PacifiCorp's existing Mile Hi substation in Lakeview, Oregon; (6) an 8.7 mile underground pipeline diverting water from the Chewaucan River to the project for initial and maintenance fill; and, (7) appurtenant facilities. The estimated annual generation of the Crooked Creek Project would be 1,460 gigawatt-hours.

Applicant Contact: Tim Hemstreet, Managing Director, Renewable Energy Development, PacifiCorp, 825 NE Multnomah, Suite 1800, Portland, OR 97232; email: Tim.Hemstreet@pacificorp.com; phone: (503) 813-6170.

FERC Contact: Kristen Sinclair; email: kristen.sinclair@ferc.gov; phone: (202) 502-6587.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15239-000.

More information about this project, including a copy of the application, can be viewed or printed on the “eLibrary” link of Commission's website at http://www.ferc.gov/docs-filing/elibrary.asp. Enter the docket number (P-15239) in the docket number field to access the document. For assistance, contact FERC Online Support.

Dated: December 21, 2021.
Kimberly D. Bose,
Secretary.

[FR Doc. 2021-28203 Filed 12-27-21; 8:45 am]

BILLING CODE 6717-01-P